ENVIRONMENTAL PROTECTION AGENCY

40 CFR Part 271

[EPA-R05-RCRA-2008-0711; FRL-8744-3]

Wisconsin: Final Authorization of State Hazardous Waste Management Program Revision

AGENCY: Environmental Protection Agency (EPA).

ACTION: Proposed rule.

SUMMARY: Wisconsin has applied to EPA for final authorization of the changes to its hazardous waste program under the Resource Conservation and Recovery Act (RCRA). EPA has reviewed Wisconsin's application and has preliminarily determined that these changes satisfy all requirements needed to qualify for final authorization, and is proposing to authorize the State's changes. We are proposing to authorize the renumbering and revision of Wisconsin's previously authorized regulations.

DATES: Comments on this proposed rule must be received on or before December 24, 2008.

ADDRESSES: Submit your comments, identified by Docket ID No. EPA-R05-RCRA-2008-0711 by one of the following methods:

http://www.regulations.gov: Follow the on-line instructions for submitting comments.

E-mail: gromnicki.jean@epa.gov.

Mail: Jean Gromnicki, Wisconsin Regulatory Specialist, LR-8J, U.S. EPA, Region 5, 77 West Jackson Boulevard, Chicago, Illinois 60604.

Instructions: Direct your comments to Docket ID Number EPA-R05-RCRA-2008-0711. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters or any form of encryption, and be free of any defects or viruses. For additional information about EPA's public docket, visit the EPA Docket Center homepage at http://www.epagov/epahome/dockets.htm.

Docket: All documents in the docket are listed in the www.regulations.gov index. Although listed in the index, some of the information is not publicly available, e.g., CBI or other information whose disclosure is restricted by statute. Certain other material, such as copyrighted material, will be publicly available only in hard copy. Publicly available docket materials are available either electronically in http://www.regulations.gov or in hard copy. You may view and copy Wisconsin's application from 9 a.m. to 4 p.m. at the following addresses: U.S. EPA, Region 5, LR-8J, 77 West Jackson Boulevard, Chicago, Illinois, contact: Jean Gromnicki (312) 886-6162; or Wisconsin Department of Natural Resources, 101 S. Webster Street, Madison, Wisconsin, contact: Patricia Chabot (608) 264-6015.

FOR FURTHER INFORMATION CONTACT: Jean Gromnicki, Wisconsin Regulatory Specialist, U.S. EPA, Region 5, LR-8J, 77 West Jackson Boulevard, Chicago, Illinois 60604, (312) 886-6162, e-mail gromnicki.jean@epa.gov.

SUPPLEMENTARY INFORMATION:

A. Why Are Revisions to State Programs Necessary?

States which have received final authorization from EPA under RCRA Section 3006(b), 42 U.S.C. 6926(b), must maintain a hazardous waste program that is equivalent to, consistent with, and no less stringent than the Federal program. As the Federal program changes, States must change their programs and ask EPA to authorize the changes. Changes to State programs may be necessary when Federal or State statutory or regulatory authority is modified or when certain other changes occur. Most commonly, States must change their programs because of changes to EPA's regulations in 40 Code of Federal Regulations (CFR) parts 124, 260 through 266, 268, 270, 273 and 279.

B. What Decisions Have We Made in This Rule?

We conclude that Wisconsin's application to revise its authorized program meets all of the statutory and regulatory requirements established by RCRA. Therefore, we propose to grant Wisconsin final authorization to operate its hazardous waste program with the changes described in the authorization application. Wisconsin has responsibility for permitting Treatment, Storage, and Disposal Facilities (TSDFs) within its borders (except in Indian Country) and for carrying out the aspects of the RCRA program described in its revised program application, subject to the limitations of the Hazardous and Solid Waste Amendments of 1984 (HSWA). New Federal requirements and prohibitions imposed by Federal regulations that EPA promulgates under the authority of HSWA take effect in authorized States before they are authorized for the requirements. Thus, EPA will implement those requirements and prohibitions in Wisconsin, including issuing permits, until the State is granted authorization to do so.

C. What Is the Effect of Today's Authorization Decision?

The effect of this decision is that a facility in Wisconsin subject to RCRA will now have to comply with the authorized State requirements instead of the equivalent Federal requirements in order to comply with RCRA. Wisconsin has enforcement responsibilities under its State hazardous waste program for violations of such program, but EPA retains its authority under RCRA sections 3007, 3008, 3013, and 7003, which include, among others, authority to:

1. Do inspections, and require monitoring, tests, analyses or reports

2. Enforce RCRA requirements and suspend or revoke permits

3. Take enforcement actions regardless of whether the State has taken its own actions

This action does not impose additional requirements on the regulated community because the regulations for which Wisconsin is being authorized by today's action are already effective, and are not changed by today's action.

D. What Happens if EPA Receives Comments That Oppose This Action?

If EPA receives comments that oppose this authorization, we will address all public comments in a later Federal Register. You may not have another opportunity to comment. If you want to comment on this authorization, you must do so at this time.

E. What Has Wisconsin Previously Been Authorized for?

Wisconsin initially received final authorization on January 30, 1986, effective January 31, 1986 (51 FR 3783) to implement the RCRA hazardous waste management program. We granted authorization for changes to their program on May 23, 1989, effective June 6, 1989 (54 FR 15029), on November 22, 1989, effective January 22, 1990 (54 FR 48243), on April 24, 1992, effective April 24, 1992 (57 FR 15029), on June 2, 1993, effective August 2, 1993 (58 FR 31344), on August 4, 1994, effective October 4, 1994 (59 FR 39971), on August 5, 1999, effective October 4, 1999 (64 FR 42630), and on June 26, 2002, effective June 26, 2002 (67 FR 43002).

F. What Changes Are We Authorizing With Today's Action?

On April 29, 2008, Wisconsin submitted a final complete program revision application, seeking authorization of their changes in accordance with 40 CFR 271.21. We now make a final decision, subject to receipt of written comments that oppose this action, that Wisconsin's hazardous waste program revision satisfies all of the requirements necessary to qualify for final authorization. These rules were effective on August 1, 2006. Therefore, we propose to grant Wisconsin final authorization for the following program changes:

Federal provision | Former NR provision | Recodified NR provision
40 CFR 260.1 | NR 600.01 | NR 660.01
40 CFR 260.2 | NR 600.06 | NR 660.02
40 CFR 260.3 | §§ 227.27(1) & 990.001(1) & (2), Stats | §§ 227.27(1) & 990.001(1) & (2), Stats.
40 CFR 260.10 | NR 600.03 | NR 660.10
40 CFR 260.11 | NR 600.10 | NR 660.11
40 CFR 260.20 | NR 605.10(6) | NR 660.20
40 CFR 260.21 | None | NR 660.21
40 CFR 260.22 | NR 605.10(1), (2) & (4) | NR 660.22
40 CFR 260.23 | NR 605.10(7) | NR 660.23
40 CFR 260.30 | None | NR 660.30
40 CFR 260.31 | None | NR 660.31
40 CFR 260.32 | None | NR 660.32
40 CFR 260.33 | None | NR 660.33
40 CFR 260.40 | NR 625.10 | NR 660.40
40 CFR 260.41 | None | NR 660.41
40 CFR 261.1 | NR 600.03 & 605.01-605.03 | NR 661.01
40 CFR 261.2 | NR 605.05(1)(m), (2)(a) & (f)-(i), (3) & (4) | NR 661.02
40 CFR 261.3 | NR 605.04 | NR 661.03
40 CFR 261.4 | NR 600.03(107) & 605.05 & § 289.01(33), Stats | NR 661.04
40 CFR 261.5 | NR 610.06, 610.07(1)-(4) & 610.09 | NR 662.220
40 CFR 261.6 | NR 605.05(1)(q) & (2)(a)-(d), 625.01-625.09 & 625.11 | NR 661.06
40 CFR 261.7 | NR 605.06 & 610.04(4) | NR 661.07
40 CFR 261.8 | NR 605.13 | NR 661.08
40 CFR 261.9 | NR 605.05(12) | NR 661.09
40 CFR 261.10 | NR 605.07(1) | NR 661.10
40 CFR 261.11 | NR 605.07(2) | NR 661.11
40 CFR 261.20 | NR 605.08(1) | NR 661.20
40 CFR 261.21 | NR 605.08(2) | NR 661.21
40 CFR 261.22 | NR 605.08(3) | NR 661.22
40 CFR 261.23 | NR 605.08(4) | NR 661.23
40 CFR 261.24 | NR 605.08(5) | NR 661.24
40 CFR 261.30 | NR 605.09(1) | NR 661.30
40 CFR 261.31 | NR 605.09(2)(a) & 605.14 | NR 661.31
40 CFR 261.32 | NR 605.09(2)(b) | NR 661.32
40 CFR 261.33 | NR 605.09(3) | NR 661.33
40 CFR 261.35 | NR 605.05(6) | NR 661.35
40 CFR 261.38 | None | NR 661.38
40 CFR 261 Appendix I | NR 605 Appendix I | NR 661 Appendix I
40 CFR 261 Appendix II | None | NR 661 Appendix II
40 CFR 261 Appendix III | NR 605 Appendix II | NR 661 Appendix III
40 CFR 261 Appendix VII | NR 605 Appendix III | NR 661 Appendix VII
40 CFR 261 Appendix VIII | NR 605 Appendix IV | NR 661 Appendix VIII
40 CFR 262.10 | NR 610.01, 610.02, 610.04(2) & (3), 615.01, 615.02, 615.04(2) & 615.05(1)(c) | NR 662.010 & 662.190(2)
40 CFR 262.11 | NR 610.05(1)-(5) & 615.06(1)-(4) & (6) | NR 662.011 & 662.190(2)
40 CFR 262.12 | NR 610.08(1)(b) & (c) & 615.07 | NR 662.012 & 662.190(2)
40 CFR 262.20 | NR 610.08(1)(d) & (e), 615.08(1), (3)-(5), (8) & (9) & 15.09(1) | NR 662.020 & 662.191
40 CFR 262.21 | NR 610.08(1)(d) & 615.08(2) | NR 662.021 & 662.190(2)(a)
40 CFR 262.22 | NR 610.08(1)(d) & 615.08(6) | NR 662.022 & 662.190(2)(a)
40 CFR 262.23 | NR 610.08(1)(d) & 615.08(6), (11), (12) & (15) | NR 662.023 & 662.190(2)(a)
40 CFR 262.30 | NR 610.08(1)(j), 615.05(4)(a)2.a. & 615.10(1) | NR 662.030 & 662.190(2)
40 CFR 262.31 | NR 610.08(1)(k)(intro.), 615.05(4)(a)2.a. & 615.10(2)(intro.) | NR 662.031 & 662.190(2)
40 CFR 262.32 | NR 610.08(1)(k)(intro.) & 2., 615.05(4)(a)2.a. & 615.10(2)(intro.) & (b) | NR 662.032 & 662.190(2)
40 CFR 262.33 | NR 610.08(1)(L), 615.05(4)(a)2.a. & 615.10(3) | NR 662.033 & 662.190(2)
40 CFR 262.34 | NR 615.05(4)(a)2.-6. & 10., (b) & (c) & 610.08(intro.), (1)(k)1., (n)-(q), (u), (w) & (x), (2) & (5)(a) & (c) | NR 662.034 & 662.192
40 CFR 262.40 | NR 615.06(5), 615.08(7) & 615.11(1)(c) & (2)(c) | NR 662.040
40 CFR 262.41 | NR 615.11(1) | NR 662.041
40 CFR 262.42 | NR 615.11(2) | NR 662.042
40 CFR 262.43 | NR 615.11(3) | NR 662.043
40 CFR 262.44 | NR 610.05(6), 610.08(1)(d), (h)1. & (i) & 615.08(7) | NR 662.193
40 CFR 262.50 | NR 610.08(1)(m) & 615.12(intro.) | NR 662.050 & 662.190(2)
40 CFR 262.51 | NR 600.03(41), (70), (180), (184) & (234) | NR 662.051 & 662.190(2)
40 CFR 262.52 | NR 610.08(1)(m) & 615.12(1i)-(1m) | NR 662.052 & 662.190(2)
40 CFR 262.53 | NR 610.08(1)(m) & 615.12(1) | NR 662.053 & 662.190(2)
40 CFR 262.54 | NR 610.08(1)(m) & 615.12(1c)-(1g), (1k), (1p) & (1r) | NR 662.054 & 662.190(2)
40 CFR 262.55 | NR 610.08(1)(m) & 615.12(2) | NR 662.055 & 662.190(2)
40 CFR 262.56 | NR 610.08(1)(m) & 615.12(1t) | NR 662.056 & 662.190(2)
40 CFR 262.57 | NR 610.08(1)(m) & 615.12(1u)-(1z) | NR 662.057 & 662.190(2)
40 CFR 262.58 | NR 615.14 | NR 662.058 & 662.190(2)
40 CFR 262.60 | NR 615.13 | NR 662.060 & 662.190(2)
40 CFR 262.70 | NR 610.04(2) & (3) & 615.04(2) | NR 662.070 & 662.190(2)
40 CFR 262.80 | None | NR 662.080 & 662.190(2)
40 CFR 262.81 | None | NR 662.081 & 662.190(2)
40 CFR 262.82 | None | NR 662.082 & 662.190(2)
40 CFR 262.83 | None | NR 662.083 & 662.190(2)
40 CFR 262.84 | None | NR 662.084 & 662.190(2)
40 CFR 262.85 | None | NR 662.085 & 662.190(2)
40 CFR 262.86 | None | NR 662.086 & 662.190(2)
40 CFR 262.87 | None | NR 662.087 & 662.190(2)
40 CFR 262.89 | None | NR 662.089 & 662.190(2)
40 CFR 262 Appendix | NR 610.08(1)(d) & 615.08(8)(intro.) & (9)(intro.) | NR 662.020(1) & 662.190(2)(a)
40 CFR 263.10 | NR 620.01, 620.04(1) & 620.05(2) & (5) | NR 663.10
40 CFR 263.11 | NR 620.05(4) & 620.06 | NR 663.11
40 CFR 263.12 | NR 620.14(intro.), (3), (5)(a) & (14) | NR 663.12
40 CFR 263.20 | NR 620.07 | NR 663.20
40 CFR 263.21 | NR 620.08 | NR 663.21
40 CFR 263.22 | NR 620.09 | NR 663.22
40 CFR 263.30 | NR 620.10 | NR 663.30
40 CFR 263.31 | NR 620.10 | NR 663.31
40 CFR 264.1 | NR 630.01, 630.02, 630.04(1), (2), (4)-(7), (9), (11)-(14), (16) & (17), 635.04(1), 636.04(1), 640.04(1)-(5) & (9)-(11), 645.04(1)-(5), 656.04(2), 660.04(2) & 665.05(2) | NR 664.0001
40 CFR 264.3 | NR 630.04(8), 640.04(7) & 660.04(4) | NR 664.0003
40 CFR 264.4 | § 291.85, Stats | NR 664.0004
40 CFR 264.10 | NR 630.02 | NR 664.0010
40 CFR 264.11 | NR 630.11 | NR 664.0011
40 CFR 264.12 | NR 630.10 | NR 664.0012
40 CFR 264.13 | NR 630.12 & 630.13(1) | NR 664.0013
40 CFR 264.14 | NR 630.14 | NR 664.0014
40 CFR 264.15 | NR 630.15 | NR 664.0015
40 CFR 264.16 | NR 630.16 | NR 664.0016
40 CFR 264.17 | NR 630.17(1) & (2) | NR 664.0017
40 CFR 264.18 | NR 600.04(5) & 630.18(2) & (3) | NR 664.0018
40 CFR 264.19 | NR 655.07(7) & 660.13(6)-(9) & 660.16 | NR 664.0019
40 CFR 264.30 | NR 630.02 | NR 664.0030
40 CFR 264.31 | NR 630.21(1) | NR 664.0031
40 CFR 264.32 | NR 630.21(2) | NR 664.0032
40 CFR 264.33 | NR 630.21(4) | NR 664.0033
40 CFR 264.34 | NR 630.21(3) | NR 664.0034
40 CFR 264.35 | NR 630.21(5) | NR 664.0035
40 CFR 264.37 | NR 630.21(6) | NR 664.0037
40 CFR 264.50 | NR 630.02 | NR 664.0050
40 CFR 264.51 | NR 630.22(1)(a) | NR 664.0051
40 CFR 264.52 | NR 630.22(1)(e) & (g) | NR 664.0052
40 CFR 264.53 | NR 630.22(1)(b) | NR 664.0053
40 CFR 264.54 | NR 630.22(1)(c) | NR 664.0054
40 CFR 264.55 | NR 630.22(1)(d) | NR 664.0055
40 CFR 264.56 | NR 630.22(2) | NR 664.0056
40 CFR 264.70 | NR 630.02 | NR 664.0070
40 CFR 264.71 | NR 630.30(4)-(5m) & (7) | NR 664.0071
40 CFR 264.72 | NR 600.03(147) & (203) & 630.30(6) | NR 664.0072
40 CFR 264.73 | NR 630.31(1) | NR 664.0073
40 CFR 264.74 | NR 630.31(2)-(4) | NR 664.0074
40 CFR 264.75 | NR 630.40(1) | NR 664.0075
40 CFR 264.76 | NR 630.40(2) | NR 664.0076
40 CFR 264.77 | NR 630.40(3) | NR 664.0077
40 CFR 264.90 | NR 635.02, 635.04(1)(a) & 635.05(1)(intro.), (a), (b) & (d) & (2) & 680.04 | NR 664.0090
40 CFR 264.91 | NR 635.06 | NR 664.0091
40 CFR 264.92 | NR 635.07 | NR 664.0092
40 CFR 264.93 | NR 635.08 | NR 664.0093
40 CFR 264.94 | NR 635.09 | NR 664.0094
40 CFR 264.95 | NR 635.10 | NR 664.0095
40 CFR 264.96 | NR 635.11(1) & (2) | NR 664.0096
40 CFR 264.97 | NR 635.12 | NR 664.0097
40 CFR 264.98 | NR 635.13 | NR 664.0098
40 CFR 264.99 | NR 635.14 | NR 664.0099
40 CFR 264.100 | NR 635.15 | NR 664.0100
40 CFR 264.101 | NR 635.17 | NR 664.0101
40 CFR 264.110 | NR 680.04, 685.02 & 685.06(1) | NR 664.0110
40 CFR 264.111 | NR 685.05(1)(a)-(c) | NR 664.0111
40 CFR 264.112 | NR 685.05(2)-(5) | NR 664.0112
40 CFR 264.113 | NR 685.05(6) & (7) | NR 664.0113
40 CFR 264.114 | NR 685.05(8) | NR 664.0114
40 CFR 264.115 | NR 685.05(10)(a) & (b) | NR 664.0115
40 CFR 264.116 | NR 685.05(10)(c) | NR 664.0116
40 CFR 264.117 | NR 685.06(2)-(4) | NR 664.0117
40 CFR 264.118 | NR 685.06(5) & (6) | NR 664.0118
40 CFR 264.119 | NR 660.17, 660.24(10) & 685.06(8) | NR 664.0119
40 CFR 264.120 | NR 685.06(9) | NR 664.0120
40 CFR 264.140 | NR 680.04 & 685.07(1)(a) & (b) | NR 664.0140
40 CFR 264.141 | NR 600.03(3), (15), (23m), (33), (35), (52), (53), (116), (137), (139), (144), (154), (155), (162), (168), (218), (219) & (224) & 685.03 | NR 664.0141
40 CFR 264.142 | NR 685.07(3)(a), (b)1. & 4. & (c) | NR 664.0142
40 CFR 264.143 | NR 685.07(5)(a)-(i) & (9)(a) | NR 664.0143
40 CFR 264.144 | NR 685.07(4)(a), (b)1. & 4. & (c) | NR 664.0144
40 CFR 264.145 | NR 685.07(5)(a)-(i) & (9)(b) | NR 664.0145
40 CFR 264.146 | NR 680.04 | NR 664.0146
40 CFR 264.147 | NR 680.04 & 685.08(1)-(3), (4)(c), (6), (8), (9)(a) & (b), (10)(a)-(c), (11)(a)-(d) & (12)(a)-(d) | NR 664.0147
40 CFR 264.148 | NR 685.07(10) & 685.08(13) | NR 664.0148
40 CFR 264.151 | NR 685.08(7)(a) & (b), (8)(d)1., (9)(c), (10)(f), (11)(e) & (12)(e) & DNR Forms 4430-022—4430-026 | NR 664.0151
40 CFR 264.170 | NR 640.02 | NR 664.0170
40 CFR 264.171 | NR 640.09 | NR 664.0171
40 CFR 264.172 | NR 640.10 | NR 664.0172
40 CFR 264.173 | NR 640.11(2) & (3) | NR 664.0173
40 CFR 264.174 | NR 640.12(1) | NR 664.0174
40 CFR 264.175 | NR 640.13(1) | NR 664.0175
40 CFR 264.176 | NR 640.14 | NR 664.0176
40 CFR 264.177 | NR 640.15 | NR 664.0177
40 CFR 264.178 | NR 640.16(1) | NR 664.0178
40 CFR 264.179 | NR 640.13(4) | NR 664.0179
40 CFR 264.190 | NR 645.02 & 645.09(1) & (2) | NR 664.0190
40 CFR 264.191 | NR 645.07(1)-(4) | NR 664.0191
40 CFR 264.192 | NR 645.08 | NR 664.0192
40 CFR 264.193 | NR 645.09(3)-(11) | NR 664.0193
40 CFR 264.194 | NR 645.10(1)-(3) | NR 664.0194
40 CFR 264.195 | NR 645.11 | NR 664.0195
40 CFR 264.196 | NR 645.12 | NR 664.0196
40 CFR 264.197 | NR 645.17(1)(a) | NR 664.0197
40 CFR 264.198 | NR 645.13 | NR 664.0198
40 CFR 264.199 | NR 645.14 | NR 664.0199
40 CFR 264.200 | NR 645.10(6) | NR 664.0200
40 CFR 264.220 | NR 660.02 | NR 664.0220
40 CFR 264.221 | NR 660.18(11)(a)-(d), (38) & (39), 660.24(11)(b)1.-5. & 680.04 | NR 664.0221
40 CFR 264.222 | NR 660.18(11)(f) | NR 664.0222
40 CFR 264.223 | NR 660.18(11)(g)-(i) | NR 664.0223
40 CFR 264.226 | NR 660.18(13), (31)(b) & (c) & (32) | NR 664.0226
40 CFR 264.227 | NR 660.18(33)-(37) | NR 664.0227
40 CFR 264.228 | NR 660.20(1)(a)1. & (d), 660.21(1)(a) & (4), 660.22 & 660.24(14) & (15) | NR 664.0228
40 CFR 264.229 | NR 660.18(3) & 660.24(11)(a) | NR 664.0229
40 CFR 264.230 | NR 660.18(4) | NR 664.0230
40 CFR 264.231 | NR 660.25 | NR 664.0231
40 CFR 264.232 | NR 660.18(40) | NR 664.0232
40 CFR 264.250 | NR 655.02 & 655.05(2)(intro.) & (a)-(e) | NR 664.0250
40 CFR 264.251 | NR 655.07(2), (3) & (5) & 680.04 | NR 664.0251
40 CFR 264.252 | NR 655.07(2) & 660.18(11)(f) | NR 664.0252
40 CFR 254.253 | NR 655.07(2) & 660.18(11)(g)-(i) | NR 664.0253
40 CFR 264.254 | NR 655.08 | NR 664.0254
40 CFR 264.256 | NR 655.09 | NR 664.0256
40 CFR 264.257 | NR 655.10(1) | NR 664.0257
40 CFR 264.258 | NR 655.11(2)(a), (b) & (d) | NR 664.0258
40 CFR 264.259 | NR 655.12 | NR 664.0259
40 CFR 264.270 | NR 600.04(3) | NR 664.0270
40 CFR 264.271 | None | None.
40 CFR 264.272 | None | None.
40 CFR 264.273 | None | None.
40 CFR 264.276 | None | None.
40 CFR 264.278 | None | None.
40 CFR 264.279 | None | None.
40 CFR 264.280 | None | None.
40 CFR 264.281 | None | None.
40 CFR 264.282 | None | None.
40 CFR 264.283 | None | None.
40 CFR 264.300 | NR 660.02 | NR 664.0300
40 CFR 264.301 | NR 660.18(11)(a)-(d), (12), (16) & (29) & 680.04 | NR 664.0301
40 CFR 264.302 | NR 660.18(11)(f) | NR 664.0302
40 CFR 264.303 | NR 660.18(13) & (31)(a) & (c) | NR 664.0303
40 CFR 264.304 | NR 660.18(11)(g)-(i) | NR 664.0304
40 CFR 264.309 | NR 660.18(14) | NR 664.0309
40 CFR 264.310 | NR 660.20(1)(a)1., 660.21(1)(a) & 660.22(2) | NR 664.0310
40 CFR 264.312 | NR 660.18(3) | NR 664.0312
40 CFR 264.313 | NR 660.18(4) | NR 664.0313
40 CFR 264.314 | NR 660.18(6)-(8) & (9)(b) & (d) | NR 664.0314
40 CFR 264.315 | NR 660.18(9)(a) | NR 664.0315
40 CFR 264.316 | NR 660.18(9)(c) | NR 664.0316
40 CFR 264.317 | NR 660.25 | NR 664.0317
40 CFR 264.340 | NR 665.02 | NR 664.0340
40 CFR 264.341 | NR 665.09(14) | NR 664.0341
40 CFR 264.342 | NR 665.08 | NR 664.0342
40 CFR 264.343 | NR 665.09(13) | NR 664.0343
40 CFR 264.344 | NR 665.05(3) | NR 664.0344
40 CFR 264.345 | NR 665.09(12), (14), (15) & (17)-(19) | NR 664.0345
40 CFR 264.347 | NR 665.09(11)(a)-(f) | NR 664.0347
40 CFR 264.351 | NR 665.10(1) | NR 664.0351
40 CFR 264.550 | None | NR 664.0550
40 CFR 264.551 | NR 600.03(49) & 636.40 | NR 664.0551
40 CFR 264.552 | None | NR 664.0552
40 CFR 264.553 | NR 636.41 | NR 664.0553
40 CFR 264.554 | None | NR 664.0554
40 CFR 264.555 | None | NR 664.0555
40 CFR 264.570 | NR 656.02, 656.03, 656.04(3) & 656.07(1) | NR 664.0570
40 CFR 264.571 | NR 656.07(2) | NR 664.0571
40 CFR 264.572 | NR 656.07(3) | NR 664.0572
40 CFR 264.573 | NR 656.07(4) | NR 664.0573
40 CFR 264.574 | NR 656.07(5) | NR 664.0574
40 CFR 264.575 | NR 656.08(1)(a), (b) & (c)1.-3. | NR 664.0575
40 CFR 264.600 | NR 670.02 | NR 664.0600
40 CFR 264.601 | NR 670.08 | NR 664.0601
40 CFR 264.602 | NR 670.09 | NR 664.0602
40 CFR 264.603 | NR 670.10(2) | NR 664.0603
40 CFR 264.1030 | NR 631.02 | NR 664.1030
40 CFR 264.1031 | NR 600.03(9), (30), (47), (63), (66), (84), (86), (90), (112), (113), (179), (209), (214), (222) & (230) & 631.03(1)-(15) & (18)-(25) | NR 664.1031
40 CFR 264.1032 | NR 631.06(1) | NR 664.1032
40 CFR 264.1033 | NR 631.06(2) | NR 664.1033
40 CFR 264.1034 | NR 631.03(26) & 631.07 | NR 664.1034
40 CFR 264.1035 | NR 631.08 | NR 664.1035
40 CFR 264.1036 | NR 631.09 | NR 664.1036
40 CFR 264.1050 | NR 632.02 | NR 664.1050
40 CFR 264.1051 | NR 632.03 | NR 664.1051
40 CFR 264.1052 | NR 632.06(1) | NR 664.1052
40 CFR 264.1053 | NR 632.06(2) | NR 664.1053
40 CFR 264.1054 | NR 632.06(3) | NR 664.1054
40 CFR 264.1055 | NR 632.06(4) | NR 664.1055
40 CFR 264.1056 | NR 632.06(5) | NR 664.1056
40 CFR 264.1057 | NR 632.06(6) | NR 664.1057
40 CFR 264.1058 | NR 632.06(7) | NR 664.1058
40 CFR 264.1059 | NR 632.06(8) | NR 664.1059
40 CFR 264.1060 | NR 632.06(9) | NR 664.1060
40 CFR 264.1061 | NR 632.07(1) | NR 664.1061
40 CFR 264.1062 | NR 632.07(2) | NR 664.1062
40 CFR 264.1063 | NR 631.03(26) & 632.08 | NR 664.1063
40 CFR 264.1064 | NR 632.09 | NR 664.1064
40 CFR 264.1065 | NR 632.10 | NR 664.1065
40 CFR 264.1080 | NR 633.02 | NR 664.1080
40 CFR 264.1081 | NR 631.03(14) & 633.03 | NR 664.1081
40 CFR 264.1082 | NR 633.05 | NR 664.1082
40 CFR 264.1083 | NR 633.06 | NR 664.1083
40 CFR 264.1084 | NR 633.07 | NR 664.1084
40 CFR 264.1085 | NR 633.08 | NR 664.1085
40 CFR 264.1086 | NR 633.09 | NR 664.1086
40 CFR 264.1087 | NR 633.10 | NR 664.1087
40 CFR 264.1088 | NR 633.11 | NR 664.1088
40 CFR 264.1089 | NR 633.12 | NR 664.1089
40 CFR 264.1090 | NR 633.13 | NR 664.1090
40 CFR 264.1100 | NR 655.02 & 655.05(2) (intro.), (a), (g)(intro.) & 1, (k) & (L) | NR 664.1100
40 CFR 264.1101 | NR 655.05(2)(j) & (L) & 655.07(5) & (6) | NR 664.1101
40 CFR 264.1102 | NR 655.11(2)(a)-(c) | NR 664.1102
40 CFR 264.1200 | None | NR 664.1200
40 CFR 264.1201 | None | NR 664.1201
40 CFR 264.1202 | None | NR 664.1202
40 CFR 264 Appendix I | None | NR 664 Appendix I
40 CFR 264 Appendix IV | None | NR 664 Appendix IV
40 CFR 264 Appendix V | None | NR 664 Appendix V
40 CFR 264 Appendix VI | None | None. See NR 664.0018, 1st Note.
40 CFR 264 Appendix IX | NR 635 Appendix I | NR 664 Appendix IX
40 CFR 265.1 | NR 635.04(1), 645.04(1)-(5), 656.04(2) & 680.22 | NR 665.0001
40 CFR 265.4 | § 291.85, Stats. | NR 665.0004
40 CFR 265.10 | None | NR 665.0010
40 CFR 265.11 | NR 630.11 & 680.22(3) | NR 665.0011
40 CFR 265.12 | NR 630.10(1) & (2) & 680.22(4) | NR 665.0012
40 CFR 265.13 | NR 630.12, 630.13(1) & 680.22(5) & (6) | NR 665.0013
40 CFR 265.14 | NR 630.14 & 680.22(12) | NR 665.0014
40 CFR 265.15 | NR 630.15 & 680.22(16) | NR 665.0015
40 CFR 265.16 | NR 630.16 & 680.22(14) | NR 665.0016
40 CFR 265.17 | NR 630.17(1) & (2) & 680.22(10) | NR 665.0017
40 CFR 265.18 | NR 600.04(5), 630.18(2) & (3) & 680.22(2) & (11) | NR 665.0018
40 CFR 265.19 | NR 655.07(7), 660.13(6)-(9), 660.16 & 680.22(24), (25) & (26) | NR 665.0019
40 CFR 265.30 | None | NR 665.0030
40 CFR 265.31 | NR 630.21(1) & 680.22(13) | NR 665.0031
40 CFR 265.32 | NR 630.21(2) & 680.22(13) | NR 665.0032
40 CFR 265.33 | NR 630.21(4) & 680.22(13) | NR 665.0033
40 CFR 265.34 | NR 630.21(3) & 680.22(13) | NR 665.0034
40 CFR 265.35 | NR 630.21(5) & 680.22(13) | NR 665.0035
40 CFR 265.37 | NR 630.21(6) & 680.22(13) | NR 665.0037
40 CFR 265.50 | None | NR 665.0050
40 CFR 265.51 | NR 630.22(1)(a) & 680.22(13) | NR 665.0051
40 CFR 265.52 | NR 630.22(1)(e) & (g) & 680.22(13) | NR 665.0052
40 CFR 265.53 | NR 630.22(1)(b) & 680.22(13) | NR 665.0053
40 CFR 265.54 | NR 630.22(1)(c) & 680.22(13) | NR 665.0054
40 CFR 265.55 | NR 630.22(1)(d) & 680.22(13) | NR 665.0055
40 CFR 265.56 | NR 630.22(2) & 680.22(13) | NR 665.0056
40 CFR 265.70 | None | NR 665.0070
40 CFR 265.71 | NR 630.30(4)-(5m) & (7) & 680.22(15) | NR 665.0071
40 CFR 265.72 | NR 630.030(6) & 680.22(15) | NR 665.0072
40 CFR 265.73 | NR 630.31(1)(a)-(i) & (k)-(o) & 680.22(15) | NR 665.0073
40 CFR 265.74 | NR 630.31(2)-(4) & 680.22(15) | NR 665.0074
40 CFR 265.75 | NR 630.40(1) & 680.22(15) | NR 665.0075
40 CFR 265.76 | NR 630.40(2) & 680.22(15) | NR 665.0076
40 CFR 265.77 | NR 630.40(3) & 680.22(15) | NR 665.0077
40 CFR 265.90 | NR 635.02, 635.04(1)(a) & 635.05(1)(intro.), (a), (b) & (d) & (2) & 680.22(28) | NR 665.0090
40 CFR 265.91 | NR 635.12(1), (3) & (8)(e)-(g) & 680.22(28) | NR 665.0091
40 CFR 265.92 | NR 635.12(9) & (12)(intro.) & (a)-(c), 635.16(1)-(4) & 680.22(28) | NR 665.0092
40 CFR 265.93 | NR 635.16(5) & (7)-(16) & 680.22(28) | NR 665.0093
40 CFR 265.94 | NR 635.16(6) & (17) & 680.22(28) | NR 665.0094
40 CFR 265.110 | NR 680.22(18) & 685.06(1) | NR 665.0110
40 CFR 265.111 | NR 680.22(17) & 685.05(1)(a)-(c) | NR 665.0111
40 CFR 265.112 | NR 680.22(17) & 685.05(2)(intro.), (a)-(f) & (k) & (3)-(5) | NR 665.0112
40 CFR 265.113 | NR 680.22(17) & 685.05(6) & (7) | NR 665.0113
40 CFR 265.114 | NR 680.22(17) & 685.05(8) | NR 665.0114
40 CFR 265.115 | NR 680.22(17) & 685.05(10)(a) & (b) | NR 665.0115
40 CFR 265.116 | NR 680.22(17) & 685.05(10)(c) | NR 665.0116
40 CFR 265.117 | NR 680.22(18) & 685.06(2)-(4) | NR 665.0117
40 CFR 265.118 | NR 680.22(18) & 685.06(5)-(7) | NR 665.0118
40 CFR 265.119 | NR 660.17, 680.22(18) & (27) & 685.06(8) | NR 665.0119
40 CFR 265.120 | NR 680.22(18) & 685.06(9) | NR 665.0120
40 CFR 265.121 | None | NR 665.0121
40 CFR 265.140 | NR 680.22(19) & 685.07(1)(a) & (b) | NR 665.0140
40 CFR 265.141 | None | NR 665.0141
40 CFR 265.142 | NR 680.22(19) & 685.07(3)(a), (b)1. & 4. & (c) | NR 665.0142
40 CFR 265.143 | NR 680.22(19) & 685.07(5)(a)-(d) & (f)-(i) & (9)(a) | NR 665.0143
40 CFR 265.144 | NR 680.22(19) & 685.07(4)(a), (b)1. & 4. & (c) | NR 665.0144
40 CFR 265.145 | NR 680.22(19) & 685.07(5)(b)-(i) & (9)(b) | NR 665.0145
40 CFR 265.146 | None | NR 665.0146
40 CFR 265.147 | NR 680.22(20) & 685.08(1)-(3), (4)(c), (6), (8), (9)(a) & (b), (10)(a)-(c), (11)(a)-(d) & (12)(a)-(d) | NR 665.0147
40 CFR 265.148 | NR 680.22(19) & (20) & 685.07(10) & 685.08(13) | NR 665.0148
40 CFR 265.170 | None | NR 665.0170
40 CFR 265.171 | NR 640.09 & 680.22(23) | NR 665.0171
40 CFR 265.172 | NR 640.10 & 680.22(23) | NR 665.0172
40 CFR 265.173 | NR 640.11(2) & (3) & 680.22(23) | NR 665.0173
40 CFR 265.174 | NR 640.12(1) & 680.22(21) | NR 665.0174
40 CFR 265.176 | NR 640.14 & 680.22(23) | NR 665.0176
40 CFR 265.177 | NR 640.15 & 680.22(21) & (23) | NR 665.0177
40 CFR 265.178 | None | NR 665.0178
40 CFR 265.190 | NR 645.02 & 645.09(1) & (2) & 680.22(22) | NR 665.0190
40 CFR 265.191 | NR 645.07(1)-(4) & 680.22(22) | NR 665.0191
40 CFR 265.192 | NR 645.08 & 680.22(22) | NR 665.0192
40 CFR 265.193 | NR 645.09(3)-(10) & (11)(a), (b), (d) & (e), 680.22(22) & 680.24(6) | NR 665.0193
40 CFR 265.194 | NR 645.10(1)-(3) & 680.22(30) | NR 665.0194
40 CFR 265.195 | NR 645.11 & 680.22(22) | NR 665.0195
40 CFR 265.196 | NR 645.12 & 680.22(22) | NR 665.0196
40 CFR 265.197 | NR 645.17(1)(a) & 680.22(17) | NR 665.0197
40 CFR 265.198 | NR 645.13 & 680.22(22) | NR 665.0198
40 CFR 265.199 | NR 645.14 & 680.22(22) | NR 665.0199
40 CFR 265.200 | NR 645.15 & 680.22(22) | NR 665.0200
40 CFR 265.201 | NR 610.08(1)(p) | NR 662.194
40 CFR 265.202 | NR 645.10(6) & 680.22(30) | NR 665.0202
40 CFR 265.220 | None | NR 665.0220
40 CFR 265.221 | NR 660.18(2)(b),(11)(a)-(d),(16) & (38) & 680.22(25) & (31) | NR 665.0221
40 CFR 265.222 | NR 660.18(11)(f) & 680.22(25) & (31) | NR 665.0222
40 CFR 265.223 | NR 660.18(22) & 680.22(25) & (31) | NR 665.0223
40 CFR 265.224 | NR 660.18(11)(g)-(i) & 680.22(25) & (31) | NR 665.0224
40 CFR 265.225 | NR 660.18(10) & 680.22(25) & (31) | NR 665.0225
40 CFR 265.226 | NR 660.18(31)(c) & 680.22(25) & (31) | NR 665.0226
40 CFR 265.228 | NR 660.20(1)(a)1. & (d), 660.21(1)(a) & (4), 660.22 & 660.24(14) & (15) & 680.22 (17), (18), (26), (27), & (31) | NR 665.0228
40 CFR 265.229 | NR 660.18(3), 660.24(11)(a) & 680.22(25) & (31) | NR 665.0229
40 CFR 265.230 | NR 660.18(4) & 680.22(25) & (31) | NR 665.0230
40 CFR 265.231 | NR 660.18(40) & 680.22(25) & (31) | NR 665.0231
40 CFR 265.250 | NR 655.02 & 680.22(24) | NR 665.0250
40 CFR 265.251 | NR 655.07(5) & 680.22(24) | NR 665.0251
40 CFR 265.252 | NR 655.10(2) & 680.22(24) | NR 665.0252
40 CFR 265.253 | NR 655.07(4) & 680.22(24) | NR 665.0253
40 CFR 265.254 | NR 655.07(2), 660.18(2)(b) & 680.22(24) | NR 665.0254
40 CFR 265.255 | NR 655.07(2), 660.18(11)(f) & 680.22(24), (25) & (31) | NR 665.0255
40 CFR 265.256 | NR 655.09 & 680.22(24) | NR 665.0256
40 CFR 265.257 | NR 655.10(1) & 680.22(24) | NR 665.0257
40 CFR 265.258 | NR 655.11(2)(a) & (b) & 680.22(24) | NR 665.0258
40 CFR 265.259 | NR 655.07(2) & 660.18(11)(g)-(i) & 680.22(24), (25) & (31) | NR 665.0259
40 CFR 265.260 | NR 655.08(3) & 680.22(24) | NR 665.0260
40 CFR 265.270 | NR 600.04(3) & 680.22(2) | NR 665.0270
40 CFR 265.272 | None | None.
40 CFR 265.273 | None | None.
40 CFR 265.276 | None | None.
40 CFR 265.278 | None | None.
40 CFR 265.279 | None | None.
40 CFR 265.280 | None | None.
40 CFR 265.281 | None | None.
40 CFR 265.282 | None | None.
40 CFR 265.300 | None | NR 665.0300
40 CFR 265.301 | NR 660.18(2)(b), (11)(a)-(d), (12), (16) & (29) & 680.22(25) & (31) | NR 665.0301
40 CFR 265.302 | NR 660.18(11)(f) & 680.22(25) & (31) | NR 665.0302
40 CFR 265.303 | NR 660.18(11)(g)-(i) & 680.22(25) & (31) | NR 665.0303
40 CFR 265.304 | NR 660.18(31)(c) & 680.22(25) & (31) | NR 665.0304
40 CFR 265.309 | NR 660.18(14) & 680.22(25) & (31) | NR 665.0309
40 CFR 265.310 | NR 660.20(1)(a)1., 660.21(1)(a) & 660.22(2)(a), (b) & (d)-(f) & 680.22(17), (18), (26) & (27) | NR 665.0310
40 CFR 265.312 | NR 660.18(3) & 680.22(25) & (31) | NR 665.0312
40 CFR 265.313 | NR 660.18(4) & 680.22(25) & (31) | NR 665.0313
40 CFR 265.314 | NR 660.18(6)-(8) & (9)(b) & (d) & 680.22(25) & (31) | NR 665.0314
40 CFR 265.315 | NR 660.18(9)(a) & 680.22(25) & (31) | NR 665.0315
40 CFR 265.316 | NR 660.18(9)(c) & 680.22(25) & (31) | NR 665.0316
40 CFR 265.340 | None | NR 665.0340
40 CFR 265.341 | NR 665.09(16)(a)1., 3. & 4. & 680.22(29) | NR 665.0341
40 CFR 265.345 | NR 665.09(5) & 680.22(29) | NR 665.0345
40 CFR 265.347 | NR 665.09(11)(d) & 680.22(29) | NR 665.0347
40 CFR 265.351 | NR 665.10(1) & 680.22(17) | NR 665.0351
40 CFR 265.352 | NR 665.09(13)(b) & (16) & 680.22(29) | NR 665.0352
40 CFR 265.370 | None | NR 665.0370
40 CFR 265.373 | None | NR 665.0373
40 CFR 265.375 | None | NR 665.0375
40 CFR 265.377 | None | NR 665.0377
40 CFR 265.381 | None | NR 665.0381
40 CFR 265.382 | NR 630.20(1) & 680.22(7) | NR 665.0382
40 CFR 265.383 | None | NR 665.0383
40 CFR 265.400 | None | NR 665.0400
40 CFR 265.401 | None | NR 665.0401
40 CFR 265.402 | None | NR 665.0402
40 CFR 265.403 | None | NR 665.0403
40 CFR 265.404 | None | NR 665.0404
40 CFR 265.405 | None | NR 665.0405
40 CFR 265.406 | None | NR 665.0406
40 CFR 265.430 | NR 600.04(1) & (2) & 680.22(2) | NR 665.0430
40 CFR 265.440 | NR 656.02, 656.03, 656.04(3) & 656.07(1) & 680.22(33) | NR 665.0440
40 CFR 265.441 | NR 656.07(2) & 680.22(33) | NR 665.0441
40 CFR 265.442 | NR 656.07(3) & 680.22(33) | NR 665.0442
40 CFR 265.443 | NR 656.07(4)(a)-(m) & (o) & 680.22(33) | NR 665.0443
40 CFR 265.444 | NR 656.07(5) & 680.22(33) | NR 665.0444
40 CFR 265.445 | NR 656.08(1)(a), (b) & (c)1.-3. & 680.22(33) | NR 665.0445
40 CFR 265.1030 | NR 631.02(1) & (2) & 680.22(34) | NR 665.1030
40 CFR 265.1031 | NR 631.03(1)-(15) & (18)-(25) & 680.22(34) | NR 665.1031
40 CFR 265.1032 | NR 631.06(1) & 680.22(34) | NR 665.1032
40 CFR 265.1033 | NR 631.06(2)(a)-(h) & (j)-(o) & 680.22(34) | NR 665.1033
40 CFR 265.1034 | NR 631.03(26), 631.07 & 680.22(34) | NR 665.1034
40 CFR 265.1035 | NR 631.08 & 680.22(34) | NR 665.1035
40 CFR 265.1050 | NR 632.02(1), (2), (4) & (5) & 680.22(35) | NR 665.1050
40 CFR 265.1051 | NR 632.03 & 680.22(35) | NR 665.1051
40 CFR 265.1052 | NR 632.06(1) & 680.22(35) | NR 665.1052
40 CFR 265.1053 | NR 632.06(2) & 680.22(35) | NR 665.1053
40 CFR 265.1054 | NR 632.06(3) & 680.22(35) | NR 665.1054
40 CFR 265.1055 | NR 632.06(4) & 680.22(35) | NR 665.1055
40 CFR 265.1056 | NR 632.06(5) & 680.22(35) | NR 665.1056
40 CFR 265.1057 | NR 632.06(6) & 680.22(35) | NR 665.1057
40 CFR 265.1058 | NR 632.06(7) & 680.22(35) | NR 665.1058
40 CFR 265.1059 | NR 632.06(8) & 680.22(35) | NR 665.1059
40 CFR 265.1060 | NR 632.06(9) & 680.22(35) | NR 665.1060
40 CFR 265.1061 | NR 632.07(1) & 680.22(35) | NR 665.1061
40 CFR 265.1062 | NR 632.07(2) & 680.22(35) | NR 665.1062
40 CFR 265.1063 | NR 631.03(26), 632.08 & 680.22(35) | NR 665.1063
40 CFR 265.1064 | NR 632.09 & 680.22(35) | NR 665.1064
40 CFR 265.1080 | NR 633.02 & 680.22(36) | NR 665.1080
40 CFR 265.1081 | NR 631.03(14), 633.03 & 680.22(36) | NR 665.1081
40 CFR 265.1082 | NR 633.04 & 680.22(36) | NR 665.1082
40 CFR 265.1083 | NR 633.05 & 680.22(36) | NR 665.1083
40 CFR 265.1084 | NR 633.06 & 680.22(36) | NR 665.1084
40 CFR 265.1085 | NR 633.07 & 680.22(36) | NR 665.1085
40 CFR 265.1086 | NR 633.08 & 680.22(36) | NR 665.1086
40 CFR 265.1087 | NR 633.09 & 680.22(36) | NR 665.1087
40 CFR 265.1088 | NR 633.10 & 680.22(36) | NR 665.1088
40 CFR 265.1089 | NR 633.11 & 680.22(36) | NR 665.1089
40 CFR 265.1090 | NR 633.12 & 680.22(36) | NR 665.1090
40 CFR 265.1100 | NR 655.02 & 680.22(24) | NR 665.1100
40 CFR 265.1101 | NR 655.07(5) & (6) & 680.22(24) | NR 665.1101
40 CFR 265.1102 | NR 655.11(2)(a)-(c) & 680.22(17) | NR 665.1102
40 CFR 265.1200 | None | NR 665.1200
40 CFR 265.1201 | None | NR 665.1201
40 CFR 265.1202 | None | NR 665.1202
40 CFR 265 Appendix I | None | NR 665 Appendix I
40 CFR 265 Appendix III | None | NR 665 Appendix III
40 CFR 265 Appendix IV | None | NR 665 Appendix IV
40 CFR 265 Appendix V | None | NR 665 Appendix V
40 CFR 265 Appendix VI | NR 633 Appendix I | NR 665 Appendix VI
40 CFR 266.20 | None | NR 666.020
40 CFR 266.21 | None | NR 666.021
40 CFR 266.22 | None | NR 666.022
40 CFR 266.23 | NR 600.04(4) | NR 666.023
40 CFR 266.70 | None | NR 666.070
40 CFR 266.80 | NR 610.04(1), 615.04(3), 620.04(2) & 625.12 | NR 666.080
40 CFR 266.100 | None | NR 666.100
40 CFR 266.101 | None | NR 666.101
40 CFR 266.102 | None | NR 666.102
40 CFR 266.103 | None | NR 666.103
40 CFR 266.104 | None | NR 666.104
40 CFR 266.105 | None | NR 666.105
40 CFR 266.106 | None | NR 666.106
40 CFR 266.107 | None | NR 666.107
40 CFR 266.108 | None | NR 666.108
40 CFR 266.109 | None | NR 666.109
40 CFR 266.110 | None | NR 666.110
40 CFR 266.111 | None | NR 666.111
40 CFR 266.112 | None | NR 666.112
40 CFR 266.200 | None | NR 666.200
40 CFR 266.201 | None | NR 666.201
40 CFR 266.202 | None | NR 666.202
40 CFR 266.203 | None | NR 666.203
40 CFR 266.204 | None | NR 666.204
40 CFR 266.205 | None | NR 666.205
40 CFR 266.206 | None | NR 666.206
40 CFR 266.210 | None | NR 666.210
40 CFR 266.220 | None | NR 666.220
40 CFR 266.225 | None | NR 666.225
40 CFR 266.230 | None | NR 666.230
40 CFR 266.235 | None | NR 666.235
40 CFR 266.240 | None | NR 666.240
40 CFR 266.245 | None | NR 666.245
40 CFR 266.250 | None | NR 666.250
40 CFR 266.255 | None | NR 666.255
40 CFR 266.260 | None | NR 666.260
40 CFR 266.305 | None | NR 666.305
40 CFR 266.310 | None | NR 666.310
40 CFR 266.315 | None | NR 666.315
40 CFR 266.320 | None | NR 666.320
40 CFR 266.325 | None | NR 666.325
40 CFR 266.330 | None | NR 666.330
40 CFR 266.335 | None | NR 666.335
40 CFR 266.340 | None | NR 666.340
40 CFR 266.345 | None | NR 666.345
40 CFR 266.350 | None | NR 666.350
40 CFR 266.355 | None | NR 666.355
40 CFR 266.360 | None | NR 666.360
40 CFR 266 Appendix I | None | NR 666 Appendix I
40 CFR 266 Appendix II | None | NR 666 Appendix II
40 CFR 266 Appendix III | None | NR 666 Appendix III
40 CFR 266 Appendix IV | None | NR 666 Appendix IV
40 CFR 266 Appendix V | None | NR 666 Appendix V
40 CFR 266 Appendix VI | None | NR 666 Appendix VI
40 CFR 266 Appendix VII | None | NR 666 Appendix VII
40 CFR 266 Appendix VIII | None | NR 666 Appendix VIII
40 CFR 266 Appendix IX | None | NR 666 Appendix IX
40 CFR 266 Appendix XI | None | NR 666 Appendix XI
40 CFR 266 Appendix XII | None | NR 666 Appendix XII
40 CFR 266 Appendix XIII | NR 605 Appendix V | NR 666 Appendix XIII
40 CFR 268.1 | NR 675.01, 675.02, 675.03(1m), 675.04(3) & (4) & 675.05(3) | NR 668.01
40 CFR 268.2 | NR 600.03(177) & 675.03 | NR 668.02
40 CFR 268.3 | NR 675.06 | NR 668.03
40 CFR 268.4 | NR 675.04(1) & (5) | NR 668.04
40 CFR 268.5 | NR 675.05(1) | NR 668.05
40 CFR 268.6 | NR 675.05(2) | NR 668.06
40 CFR 268.7 | NR 675.07 | NR 668.07
40 CFR 268.9 | NR 675.09 | NR 668.09
40 CFR 268.14 | None | NR 668.14
40 CFR 268.30 | None | NR 668.30
40 CFR 268.31 | NR 675.12 | NR 668.31
40 CFR 268.32 | None | NR 668.32
40 CFR 268.33 | None | NR 668.33
40 CFR 268.34 | None | NR 668.34
40 CFR 268.35 | None | NR 668.35
40 CFR 268.36 | None | NR 668.36
40 CFR 268.37 | NR 675.18 | NR 668.37
40 CFR 268.38 | NR 675.19(1) | NR 668.38
40 CFR 268.39 | NR 675.19(2) | NR 668.39
40 CFR 268.40 | NR 675.20 | NR 668.40
40 CFR 268.41 | NR 675.21 | NR 668.41
40 CFR 268.42 | NR 675.22 | NR 668.42
40 CFR 268.43 | NR 675.23 | NR 668.43
40 CFR 268.44 | NR 675.24 | NR 668.44
40 CFR 268.45 | NR 675.25 | NR 668.45
40 CFR 268.46 | NR 675.26 | NR 668.46
40 CFR 268.48 | NR 675.28 | NR 668.48
40 CFR 268.49 | None | NR 668.49
40 CFR 268.50 | NR 675.30 | NR 668.50
40 CFR 268 Appendix III | NR 675 Appendix II | NR 668 Appendix III
40 CFR 268 Appendix IV | NR 675 Appendix III | NR 668 Appendix IV
40 CFR 268 Appendix VI | NR 675 Appendix V | NR 668 Appendix VI
40 CFR 268 Appendix VII | NR 675 Appendix VI | NR 668 Appendix VII
40 CFR 268 Appendix VIII | NR 675 Appendix VII | NR 668 Appendix VIII
40 CFR 268 Appendix IX | None | NR 668 Appendix IX
40 CFR 268 Appendix XI | NR 675 Appendix IX | NR 668 Appendix XI
40 CFR 270.1 | NR 610.07(5), 610.08(5)(a) & (d), 615.05(6)(a) & (c), 620.14(intro.), 640.05, 640.06(1)(intro.), 645.05(1), 645.06(1)(intro.), 655.05(1), 655.06(intro.), 656.05, 656.06(intro.), 660.09(intro.), 660.12, 660.24(7) & (8)(intro.), 665.06(1)(intro.), 670.06(intro.), 680.01, 680.02, 680.24(2) & (4), 680.30, 680.31(1) & 680.43(6) | NR 670.001
40 CFR 270.2 | NR 600.03(14), (32), (49), (54), (61), (62), (68), (69), (71), (76), (78), (81), (94), (95), (98), (103), (111), (120), (146), (164), (166), (167), (170), (182), (195), (200), (215), (233), (238), (240), (244), (261), (263) & (266) & 680.03(3m) | NR 660.10 & 670.002
40 CFR 270.4 | NR 680.40 | NR 670.004
40 CFR 270.5 | None | NR 670.005
40 CFR 270.6 | NR 600.10 | NR 660.11
40 CFR 270.10 | NR 680.06(3)(a), (4) & (5), 680.10, 680.21(3), 680.31(1) & (2) & 680.45(6)(intro.) & (b) | NR 670.010
40 CFR 270.11 | NR 680.05(2) & 680.41 | NR 670.011
40 CFR 270.12 | NR 600.06 | NR 670.012
40 CFR 270.13 | None | NR 670.013
40 CFR 270.14 | NR 632.11(1)(b)3., 640.06(1)(e), (2)(e)2. & (f) & (3)(d)4., 640.07(3)(a)10., 12. & 13., 645.06(1)(e), (2)(e)2. & (f) & (3)(e), 645.16(3)(a)11., 13. & 14., 660.09(9)-(12), 660.13(3)(a) & (b) & (4), 680.05(1)(c)1., 680.06(3)(a)-(L) & (n), (4) & (5)(a), 685.07(2)(b) & 685.08(5)(a) & (b) | NR 670.014
40 CFR 270.15 | NR 640.06(2)(a)-(c) & (h) & 640.07(3)(a)7., 8. & 11 | NR 670.015
40 CFR 270.16 | NR 645.06(1)(i) & 645.16(3)(a)8.c.-e., 9. & 12 | NR 670.016
40 CFR 270.17 | NR 660.09(5), (7), (8) & (14), 660.13(1), (2) & (7) & 660.24(8) & (9) | NR 670.017
40 CFR 270.18 | NR 655.06 | NR 670.018
40 CFR 270.19 | NR 665.06(1)(d)-(f) | NR 670.019
40 CFR 270.20 | NR 600.04(3) & 680.22(2) | NR 664.0270 & 665.0270
40 CFR 270.21 | NR 660.09(5), (7), (8) & (14) & 660.13(1), (2) & (7) | NR 670.021
40 CFR 270.22 | None | NR 670.022
40 CFR 270.23 | NR 670.06 & 670.07 | NR 670.023
40 CFR 270.24 | NR 632.11(2) | NR 670.024
40 CFR 270.25 | NR 632.11(3) | NR 670.025
40 CFR 270.26 | NR 656.06 | NR 670.026
40 CFR 270.27 | NR 632.11(4) | NR 670.027
40 CFR 270.28 | None | NR 670.028
40 CFR 270.29 | None | NR 670.029
40 CFR 270.30 | NR 680.42(1)-(8), (10), (11)(a) & (c)-(f), (12)-(15) & (17)-(18m) | NR 670.030
40 CFR 270.31 | NR 680.42(11)(b) | NR 670.031
40 CFR 270.32 | NR 680.42(19) | NR 670.032
40 CFR 270.33 | None | NR 670.033
40 CFR 270.40 | NR 680.44 | NR 670.040
40 CFR 270.41 | NR 680.07(2)(b), (d), (e) & (g) & (3)(a) | NR 670.041
40 CFR 270.42 | NR 680.07(1), (2)(intro.), (3)(intro.), (5), (6)(d) & (e) & (7) & 680 Appendix I | NR 670.042 & 670 Appendix I
40 CFR 270.43 | NR 680.43(1) & (2) | NR 670.043
40 CFR 270.50 | NR 680.45(6) & (8) | NR 670.050
40 CFR 270.51 | NR 680.45(7) | NR 670.051
40 CFR 270.60 | None | NR 670.001(3)(b)9
40 CFR 270.61 | NR 600.09 | NR 670.061
40 CFR 270.62 | NR 665.06(1)(d) & (2)-(4) & 665.07(1)-(3) | NR 670.062
40 CFR 270.63 | NR 600.04(3) & 680.22(2) | NR 664.0270 & 665.0270
40 CFR 270.64 | NR 600.04(1) & (2) & 680.22(2) | NR 665.0430
40 CFR 270.65 | NR 680.51 | NR 670.065
40 CFR 270.66 | None | NR 670.066
40 CFR 270.68 | None | NR 670.068
40 CFR 270.70 | NR 680.20(1) & (3), 680.21(1)(a), 680.22(3) & 680.24(1) & (2) | NR 670.070
40 CFR 270.71 | NR 680.23 | NR 670.071
40 CFR 270.72 | NR 680.03(4) & 680.07(3)(e) & (4) | NR 670.072
40 CFR 270.73 | NR 680.43(3) & (4) | NR 670.073
40 CFR 270.79 | None | None.
40 CFR 270.80 | NR 680.50(intro.) | NR 670.079(1)
40 CFR 270.85 | None | None.
40 CFR 270.90 | None | None.
40 CFR 270.95 | None | None.
40 CFR 270.100 | None | None.
40 CFR 270.105 | None | None.
40 CFR 270.110 | NR 680.50(2) | NR 670.079(3)
40 CFR 270.115 | None | None.
40 CFR 270.120 | NR 680.50(2)(intro.) | NR 670.079(1)
40 CFR 270.125 | None | None.
40 CFR 270.130 | NR 680.50(3) | NR 670.079(4)
40 CFR 270.135 | NR 680.50(1)(e) | NR 670.079(2)(e)
40 CFR 270.140 | None | None.
40 CFR 270.145 | None | NR 670.079(3)
40 CFR 270.150 | NR 680.50(4) | NR 670.079(4)
40 CFR 270.155 | None | None.
40 CFR 270.160 | None | None.
40 CFR 270.165 | None | None.
40 CFR 270.170 | NR 680.50(1)(c) | NR 670.079(2)(c)
40 CFR 270.175 | None | None.
40 CFR 270.180 | NR 680.50(1)(d) | NR 670.079(2)(d)
40 CFR 270.185 | None | None.
40 CFR 270.190 | None | None.
40 CFR 270.195 | NR 680.50(1)(b) | NR 670.079(2)(b)
40 CFR 270.200 | NR 680.50(1)(c) | NR 670.079(2)(c)
40 CFR 270.205 | None | None.
40 CFR 270.210 | None | None.
40 CFR 270.215 | None | None.
40 CFR 270.220 | None | None.
40 CFR 270.225 | None | None.
40 CFR 270.230 | None | None.
40 CFR 270.235 | None | NR 670.235
40 CFR 124.1 | None | NR 670.401
40 CFR 124.3 | NR 640.06(4)(a), 640.07(3)(b), 645.06(4)(a), 645.16(3)(b), 660.10, 660.14, 660.15, 665.06(5) & 680.06(9)(a) | NR 670.403
40 CFR 124.4 | None | NR 670.404
40 CFR 124.5 | NR 680.07(6)(a) & (f) | NR 670.405
40 CFR 124.6 | None | NR 670.406
40 CFR 124.8 | NR 680.06(10)(b), (11)(b) & (12)(b) & 680.07(6)(c) | NR 670.408
40 CFR 124.9 | NR 680.06(10)(e), (11)(i) & (12)(e) & 680.07(6)(f) | NR 670.409
40 CFR 124.10 | NR 680.06(10)(a), (11)(a) & (12)(a) & 680.07(6)(b) | NR 670.410
40 CFR 124.11 | NR 680.06(10)(c)3., (11)(c) & (12)(c)3. & 680.07(6)(d)3 | NR 670.411
40 CFR 124.12 | NR 680.06(10)(c), (11)(f) & (12)(c) & 680.07(6)(d) | NR 670.412
40 CFR 124.15 | NR 640.06(4)(b), 645.06(4)(b), 660.11 & 665.06(6) | NR 670.415
40 CFR 124.17 | NR 680.06(10)(d), (11)(h) & (12)(d) & 680.07(6)(e) | NR 670.417
40 CFR 124.31 | NR 680.06(1m) | NR 670.431
40 CFR 124.32 | NR 680.06(8m) | NR 670.432
40 CFR 124.33 | NR 680.06(15) | NR 670.433
40 CFR 273.1 | NR 690.04 | NR 673.01
40 CFR 273.2 | NR 690.05 | NR 673.02
40 CFR 273.3 | NR 690.06 | NR 673.03
40 CFR 273.4 | NR 690.07 | NR 673.04
40 CFR 273.5 | None | NR 673.05
40 CFR 273.8 | NR 690.08 | NR 673.08
40 CFR 273.9 | NR 690.03 | NR 673.09
40 CFR 273.10 | NR 690.10 | NR 673.10
40 CFR 273.11 | NR 690.11 | NR 673.11
40 CFR 273.12 | NR 690.12(2) | NR 673.12
40 CFR 273.13 | NR 690.13 | NR 673.13
40 CFR 273.14 | NR 690.14 | NR 673.14
40 CFR 273.15 | NR 690.15 | NR 673.15
40 CFR 273.16 | NR 690.16 | NR 673.16
40 CFR 273.17 | NR 690.17 | NR 673.17
40 CFR 273.18 | NR 690.18 | NR 673.18
40 CFR 273.19 | NR 690.19 | NR 673.19
40 CFR 273.20 | NR 690.20 | NR 673.20
40 CFR 273.30 | NR 690.30 | NR 673.30
40 CFR 273.31 | NR 690.31 | NR 673.31
40 CFR 273.32 | NR 690.12(1) & 690.32 | NR 673.32
40 CFR 273.33 | NR 690.33 | NR 673.33
40 CFR 273.34 | NR 690.34 | NR 673.34
40 CFR 273.35 | NR 690.35 | NR 673.35
40 CFR 273.36 | NR 690.36 | NR 673.36
40 CFR 273.37 | NR 690.37 | NR 673.37
40 CFR 273.38 | NR 690.38 | NR 673.38
40 CFR 273.39 | NR 690.39 | NR 673.39
40 CFR 273.40 | NR 690.40 | NR 673.40
40 CFR 273.50 | NR 690.50 | NR 673.50
40 CFR 273.51 | NR 690.51 | NR 673.51
40 CFR 273.52 | NR 690.52 | NR 673.52
40 CFR 273.53 | NR 690.53 | NR 673.53
40 CFR 273.54 | NR 690.54 | NR 673.54
40 CFR 273.55 | NR 690.55 | NR 673.55
40 CFR 273.56 | NR 690.56 | NR 673.56
40 CFR 273.60 | NR 690.60 | NR 673.60
40 CFR 273.61 | NR 690.61 | NR 673.61
40 CFR 273.62 | NR 690.62 | NR 673.62
40 CFR 273.70 | NR 690.70 | NR 673.70
40 CFR 273.80 | NR 690.80 | NR 673.80
40 CFR 273.81 | NR 690.81 | NR 673.81
40 CFR 279.1 | NR 590.03 | NR 679.01
40 CFR 279.10 | NR 590.02(1), (4) & (5), 590.04(1)(a)-(d) & (2)(b)-(e), 590.05(2)(c), 590.10(2)-(4) & 590.11(1) | NR 679.10
40 CFR 279.11 | NR 590.09(1) | NR 679.11
40 CFR 279.12 | NR 590.05(1), (4) & (7) | NR 679.12
40 CFR 279.20 | NR 590.02(7), 590.04(1)(a) & (d)-(f) & 590.12 | NR 679.20
40 CFR 279.21 | NR 590.04(2)(f) | NR 679.21
40 CFR 279.22 | NR 590.13 | NR 679.22
40 CFR 279.23 | NR 590.14(1) | NR 679.23
40 CFR 279.24 | NR 590.15 | NR 679.24
40 CFR 279.30 | NR 590.20(1) | NR 679.30
40 CFR 279.31 | NR 590.20(1) | NR 679.31
40 CFR 279.32 | NR 590.20(1) | NR 679.32
40 CFR 279.40 | NR 590.30-590.33 | NR 679.40
40 CFR 279.41 | NR 590.34 & 590.50(4) | NR 679.41
40 CFR 279.42 | NR 590.07 | NR 679.42
40 CFR 279.43 | NR 590.35 | NR 679.43
40 CFR 279.44 | NR 590.11 | NR 679.44
40 CFR 279.45 | NR 590.36 | NR 679.45
40 CFR 279.46 | NR 590.37 | NR 679.46
40 CFR 279.47 | NR 590.38 | NR 679.47
40 CFR 279.50 | NR 590.50(1) & (2) & 590.51 | NR 679.50
40 CFR 279.51 | NR 590.07 | NR 679.51
40 CFR 279.52 | NR 590.52 | NR 679.52
40 CFR 279.53 | NR 590.11(1)-(3) | NR 679.53
40 CFR 279.54 | NR 590.53 | NR 679.54
40 CFR 279.55 | NR 590.54 | NR 679.55
40 CFR 279.56 | NR 590.55 | NR 679.56
40 CFR 279.57 | NR 590.56 | NR 679.57
40 CFR 279.58 | NR 590.57 | NR 679.58
40 CFR 279.59 | NR 590.58 | NR 679.59
40 CFR 279.60 | NR 590.70 & 590.71 | NR 679.60
40 CFR 279.61 | NR 590.72 | NR 679.61
40 CFR 279.62 | NR 590.07 | NR 679.62
40 CFR 279.63 | NR 590.11 | NR 679.63
40 CFR 279.64 | NR 590.73 | NR 679.64
40 CFR 279.65 | NR 590.74 | NR 679.65
40 CFR 279.66 | NR 590.75 | NR 679.66
40 CFR 279.67 | NR 590.76 | NR 679.67
40 CFR 279.70 | NR 590.80, 590.82 & 590.83 | NR 679.70
40 CFR 279.71 | NR 590.81 | NR 679.71
40 CFR 279.72 | NR 590.84 | NR 679.72
40 CFR 279.73 | NR 590.07 | NR 679.73
40 CFR 279.74 | NR 590.85 | NR 679.74
40 CFR 279.75 | NR 590.86 | NR 679.75
40 CFR 279.80 | None | NR 679.80
40 CFR 279.81 | NR 590.04(2)(c) & 590.05(2)(a) & (b) | NR 679.81
40 CFR 279.82 | NR 590.05(4) | NR 679.82

G. Where Are the Revised State Rules Different From the Federal Rules?

These practices are prohibited in Wisconsin: Underground Injection (40 CFR Part 144), and Land Treatment (40 CFR 270.20). Wisconsin also does not provide for Permit by Rule (40 CFR 270.60). Wisconsin does not allow automatic authorization under the permit modification regulations found in 40 CFR 270.42 (b)(6). The 10 year Remedial Action Plan, or RAP (40 CFR 270.79 et seq.) is replaced by a 5 year Remediation Variance (NR670.079).

These Wisconsin regulations are more stringent: 662.220(5)(c,d), 662.220(6)(c,d,f), and 670.030 (annual report required instead of a biennial report).

Wisconsin maintains different financial regulations that allow for additional equivalent financial mechanisms (664.0143), do not allow the net worth test for closure under Part 665, and maintain some more stringent insurance requirements under 664.0143(5)(h), 664.0147(1)(a)(3), and 665.0147(1)(a)(3).

The following Wisconsin regulations have no Federal counterpart: 666.081, 666.900 through 666.910, and 673.11. There are no Wisconsin provisions for 40 CFR 268.5, 268.44 (other than 268.44(h)), and 270.3 as these are Federal non-delegable provisions.

H. Who Handles Permits After the Authorization Takes Effect?

Wisconsin will issue permits for all the provisions for which it is authorized and will administer the permits it issues. EPA will continue to administer any RCRA hazardous waste permits or portions of permits which we issued prior to the effective date of this authorization until they expire or are terminated. We will not issue any more new permits or new portions of permits for the provisions listed in the table above after the effective date of this authorization. EPA will continue to implement and issue permits for HSWA requirements for which Wisconsin is not yet authorized.

I. How Does Today's Action Affect Indian Country (18 U.S.C. 1151) in Wisconsin?

Wisconsin is not authorized to carry out its hazardous waste program in “Indian Country,” as defined in 18 U.S.C. 1151. Indian Country includes:

1. All lands within the exterior boundaries of Indian reservations within the State of Wisconsin;

2. Any land held in trust by the U.S. for an Indian tribe; and

3. Any other land, whether on or off an Indian reservation that qualifies as Indian Country.

Therefore, this action has no effect on Indian Country. EPA will continue to implement and administer the RCRA program in Indian Country.

J. What Is Codification and Is EPA Codifying Wisconsin's Hazardous Waste Program as Authorized in This Rule?

Codification is the process of placing the State's statutes and regulations that comprise the State's authorized hazardous waste program into the Code of Regulations. We do this by referencing the authorized State rules in 40 CFR part 272. Wisconsin's rules, up to and including those revised June 7, 1991, as corrected August 19, 1991, have previously been codified through the incorporation-by-reference effective February 4, 1992 (57 FR 4162) . We reserve the amendment of 40 CFR part 272, subpart KK for the codification of Wisconsin's program changes until a later date.

K. Statutory and Executive Order Reviews

This proposed rule only authorizes hazardous waste requirements pursuant to RCRA 3006 and imposes no requirements other than those imposed by State law (see Supplementary Information, Section A. Why Are Revisions to State Programs Necessary?). Therefore this rule complies with applicable executive orders and statutory provisions as follows:

1. Executive Order 18266: Regulatory Planning Review

The Office of Management and Budget has exempted this rule from its review under Executive Order 12866 (58 FR 51735, October 4, 1993).

2. Paperwork Reduction Act

This rule does not impose an information collection burden under the provisions of the Paperwork Reduction Act of 1995 (44 U.S.C. 3501 et seq.).

3. Regulatory Flexibility Act

After considering the economic impacts of today's rule on small entities under the Regulatory Flexibility Act (5 U.S.C. 601 et seq.), I certify that this rule will not have a significant economic impact on a substantial number of small entities.

4. Unfunded Mandates Reform Act

Because this rule approves pre-existing requirements under State law and does not impose any additional enforceable duty beyond that required by State law, it does not contain any unfunded mandate or significantly or uniquely affect small governments, as described in the Unfunded Mandates Reform Act of 1995 (Pub. L. 104-4).

5. Executive Order 13132: Federalism

Executive Order 13132 (64 FR 43255, August 10, 1999) does not apply to this rule because it will not have federalism implications (i.e., substantial direct effects on the States, on the relationship between the national government and the States, or on the distribution of power and responsibilities among the various levels of government).

6. Executive Order 13175: Consultation and Coordination With Indian Tribal Governments

Executive Order 13175 (65 FR 67249, November 9, 2000) does not apply to this rule because it will not have tribal implications (i.e., substantial direct effects on one or more Indian tribes, or on the relationship between the Federal Government and Indian tribes, or on the distribution of power and responsibilities between the Federal Government and Indian tribes.)

7. Executive Order 13045: Protection of Children From Environmental Health and Safety Risks

This rule is not subject to Executive Order 13045 (62 FR 19885, April 23, 1997), because it is not economically significant as defined in Executive Order 12866 and because the EPA does not have reason to believe the environmental health or safety risks addressed by this action present a disproportionate risk to children.

8. Executive Order 13211: Actions That Significantly Affect Energy Supply, Distribution, or Use

This rule is not subject to Executive Order 13211 (66 FR 28355, May 22, 2001), because it is not a significant regulatory action as defined in Executive Order 12866.

9. National Technology Transfer Advancement Act

EPA approves State programs as long as they meet criteria required by RCRA, so it would be inconsistent with applicable law for EPA, in its review of a State program, to require the use of any particular voluntary consensus standard in place of another standard that meets requirements of RCRA. Thus, the requirements of section 12(d) of the National Technology Transfer and Advancement Act of 1995 (15 U.S.C. 272 note) do not apply to this rule.

10. Executive Order 12988

As required by section 3 of Executive Order 12988 (61 FR 4729, February 7, 1996), in issuing this rule, EPA has taken the necessary steps to eliminate drafting errors and ambiguity, minimize potential litigation, and provide a clear legal standard for affected conduct.

11. Executive Order 12630: Evaluation of Risk and Avoidance of Unanticipated Takings

EPA has complied with Executive Order 12630 (53 FR 8859, March 18, 1988) by examining the takings implications of the rule in accordance with the Attorney General's Supplemental Guidelines for the Evaluation of Risk and Avoidance of Unanticipated Takings issued under the executive order.

12. Executive Order 12898: Federal Actions To Address Environmental Justice in Minority Populations and Low Income Populations

Because this rule proposes authorization of pre-existing State rules and imposes no additional requirements beyond those imposed by State law and there are no anticipated significant adverse human health or environmental effects, the rule is not subject to Executive Order 12898 (59 FR 7629, February 16, 1994).

List of Subjects in 40 CFR Part 271

Environmental protection, Administrative practice and procedure, Confidential business information, Hazardous materials transportation, Hazardous waste, Indians—lands, Intergovernmental relations, Penalties, Reporting and recordkeeping requirements.

Authority: This action is issued under the authority of sections 2002(a), 3006 and 7004(b) of the Solid Waste Disposal Act as amended 42 U.S.C. 6912(a), 6926, 6974(b).

Dated: October 23, 2008.
Walter W. Kovalick,
Acting Regional Administrator, Region 5.

[FR Doc. E8-27855 Filed 11-21-08; 8:45 am]

BILLING CODE 6560-50-P